NUCLEAR REGULATORY COMMISSION

Advisory Committee on Nuclear Waste and Materials; Meeting Notice

The Advisory Committee on Nuclear Waste and Materials (ACNW&M) will hold its 184th meeting on November 13-15, 2007, at 11545 Rockville Pike, Rockville, Maryland.

Tuesday, November 13, 2007, Room T-2B3

10 a.m.-10:05 a.m.: Opening Remarks by the ACNW&M Chairman (Open)—The Chairman will make opening remarks regarding the conduct of today's sessions.

10:05 a.m.-12 p.m.: Drift Degradation—Staff Review Approach and Capability (Open)—NRC staff representatives from the Office of Nuclear Materials Safety and Safeguards will discuss the issue of post-emplacement drift degradation at Yucca Mountain.

1 p.m.-4:30 p.m.: Discussion of ACNW&M Letter Reports (Open)—The Committee will discuss potential and proposed ACNW&M letter reports.

Wednesday, November 14, 2007, Room T-2B3

9:30 a.m.-11:30 a.m.: ACNW&M November 2007 Briefing to the Commission (Room O-1G16) (Open)—The ACNW&M members will brief the Commission on their recent and planned activities. The last Commission briefing was held on December 14, 2006.

1 p.m.-2:30 p.m.: Final Proposed Design for a Geologic Repository at Yucca Mountain, Nevada (Open)—A Department of Energy representative will update the Committee on the final design (surface and subsurface facilities) proposed for the forthcoming Yucca Mountain license application.

2:30 p.m.-3:30 p.m.: Discussion of ACNW&M Letter Reports (Open)—The Committee will continue discussion of potential and proposed ACNW&M letter reports.

Thursday, November 15, 2007, Room T-2B1

8:30 a.m.-8:35 a.m.: Opening Remarks by the ACNW&M Chairman (Open)—The Chairman will make opening remarks regarding the conduct of today's sessions.

8:35 a.m.-10 a.m.: Accounting for Dose Consequence in the State-of-the-Art Reactor Consequence Analysis (SOARCA) Project (Closed) (MTR/NMC)—NRC staff representatives from the Office of Nuclear Regulatory Research will discuss the options for assessment of dose thresholds for latent cancer fatalities of the SOARCA project.

Note: Briefing will be closed pursuant to 5 U.S.C. 552b (c) (9) (B) to discuss pre-decisional documents.

10 a.m.-4:30 p.m.: Discussion of ACNW&M Letter Reports (Open)—The Committee will continue discussion of proposed ACNW&M letter reports.

4:30 p.m.-5 p.m.: Miscellaneous (Open)—The Committee will discuss matters related to the conduct of ACNW&M activities and specific issues that were not completed during previous meetings, as time and availability of information permit. Discussions may include content of future letters and scope of future Committee Meetings.

Procedures for the conduct of and participation in ACNW&M meetings were published in the Federal Register on September 26, 2007 (72 FR 54693). In accordance with those procedures, oral or written views may be presented by members of the public. Electronic recordings will be permitted only during those portions of the meeting that are open to the public. Persons desiring to make oral statements should notify Dr. Antonio F. Dias (Telephone 301-415-6805), between 8:15 a.m. and 5 p.m. (ET), as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

In accordance with Subsection 10(d) Public Law 92-463, I have determined that it may be necessary to close a portion of this meeting noted above to discuss pre-decisional documents pursuant to 5 U.S.C. 552b (c) (9) (B).

Further information regarding topics to be discussed, whether the meeting has been canceled or rescheduled, as well as the Chairman's ruling on requests for the opportunity to present oral statements and the time allotted therefore can be obtained by contacting Dr. Dias.

ACNW&M meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/acnw (ACNW&M schedules and agendas).

Video teleconferencing service is available for observing open sessions of ACNW&M meetings. Those wishing to use this service for observing ACNW&M meetings should contact Mr. Theron Brown, ACRS/ACNW&M Audio Visual Assistant (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

The ACNW&M meeting dates for Calendar Year 2008 are provided below:

ACNW&M meeting No. | Meeting dates
— | January 2008 (No Meeting).
186 | February 12-14, 2008.
187 | March 18-20, 2008.
188 | April 8-10, 2008.
189 | May 20-22, 2008.
190 | June 17-19, 2008.
191 | July 22-24, 2008.
— | August 2008 (No Meeting).
192 | September 16-18, 2008.
193 | October 28-30, 2008.
194 | November 18-20, 2008.
195 | December 9-11, 2008.

Dated: October 29, 2007.
Andrew L. Bates,
Advisory Committee Management Officer.

[FR Doc. E7-21609 Filed 11-1-07; 8:45 am]

BILLING CODE 7590-01-P